DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for and amount of compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2014, through October 31, 2014. This list provides the name of petitioner, city, and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: November 18, 2014.
Mary K. Wakefield,
Administrator.

List of Petitions Filed

1. Leyla Dagach-Imbarack, Miami, Florida, Court of Federal Claims No: 14-0930V.

2. Lisa Johnson, Lowell, Massachusetts, Court of Federal Claims No: 14-0931V.

3. Tony Oliveira and Debi Oliveira on behalf of J. O., Clifton Park, New York, Court of Federal Claims No: 14-0932V.

4. Sandra White, Huntsville, Alabama, Court of Federal Claims No: 14-0933V.

5. Michelle Dixon-Jones, Baltimore, Maryland, Court of Federal Claims No: 14-0934V.

6. Barbara Perez, Westlake, Ohio, Court of Federal Claims No: 14-0935V.

7. Matraeca Weydert, Parris Island, South Carolina, Court of Federal Claims No: 14-0942V.

8. Kimberly Silvey, Memphis, Tennessee, Court of Federal Claims No: 14-0943V.

9. Jordan Garfinkel, New York, New York, Court of Federal Claims No: 14-0944V.

10. Tyrone Gordly, Spanaway, Washington, Court of Federal Claims No: 14-0945V.

11. John Osele, Buffalo, New York, Court of Federal Claims No: 14-0946V.

12. Terrance Bernstein, Omaha, Nebraska, Court of Federal Claims No: 14-0950V.

13. Elizabeth Nicole Robinson, Columbia, Missouri, Court of Federal Claims No: 14-0952V.

14. Carrie Reyes, Schofield, Wisconsin, Court of Federal Claims No: 14-0953V.

15. Alfa Dia, Columbus, Ohio, Court of Federal Claims No: 14-0954V.

16. Amy Lee Dillson, Hixson, Tennessee, Court of Federal Claims No: 14-0959V.

17. Wendy Ward, Bethesda, Maryland, Court of Federal Claims No: 14-0962V.

18. Andrea Thompson, Queens, New York, Court of Federal Claims No: 14-0963V.

19. Patricia Knoll, Lincoln, Nebraska, Court of Federal Claims No: 14-0964V.

20. Matthew Thornton, Johnstown, Pennsylvania, Court of Federal Claims No: 14-0965V.

21. Michael Stevenson on behalf of Sharon Thomas, Detroit, Michigan, Court of Federal Claims No: 14-0966V.

22. Kia Starr-Knight, Pittsburgh, Pennsylvania, Court of Federal Claims No: 14-0967V.

23. Paula Nilsen, Sarasota, Florida, Court of Federal Claims No: 14-0968V.

24. Roger Noblett, Russellville, Arkansas, Court of Federal Claims No: 14-0969V.

25. Betty West, Cobbs Creek, Virginia, Court of Federal Claims No: 14-0970V.

26. Frances Keske, Kissimmee, Florida, Court of Federal Claims No: 14-0971V.

27. Kristin J. Reginelli on behalf of Lilyana Reginelli, Lyndhurst, Ohio, Court of Federal Claims No: 14-0972V.

28. Girldene Jackson, Philadelphia, Pennsylvania, Court of Federal Claims No: 14-0973V.

29. James Bergeron, Southgate, Michigan, Court of Federal Claims No: 14-0974V.

30. Margaret Bannister, Jefferson City, Missouri, Court of Federal Claims No: 14-0975V.

31. Jennifer Peabody Barr, Franklin, Tennessee, Court of Federal Claims No: 14-0977V.

32. Harvard Davis, Fair Oaks, California, Court of Federal Claims No: 14-0978V.

33. Linda Parker, Palatka, Florida, Court of Federal Claims No: 14-0979V.

34. StellaMarie Liverance, Germantown, Tennessee, Court of Federal Claims No: 14-0980V.

35. Kim Finch, Germantown, Tennessee, Court of Federal Claims No: 14-0981V.

36. Tesha Smith, Dallas, Texas, Court of Federal Claims No: 14-0982V.

37. Virginia Shives, Rockford, Illinois, Court of Federal Claims No: 14-0983V.

38. Gaena Maria Laney, Fayetteville, Arkansas, Court of Federal Claims No: 14-0984V.

39. Vivian Reinard, Doylestown, Pennsylvania, Court of Federal Claims No: 14-0987V.

40. Paula Sims, Yonkers, New York, Court of Federal Claims No: 14-0988V.

41. Tracy Czuprynski, Boston, Massachusetts, Court of Federal Claims No: 14-0990V.

42. Rochelle Beaver, Boston, Massachusetts, Court of Federal Claims No: 14-0991V.

43. Christina Lokay, King of Prussia, Pennsylvania, Court of Federal Claims No: 14-0993V.

44. Monica Chenowith on behalf of A. N., Baraboo, Wisconsin, Court of Federal Claims No: 14-0996V.

45. Shari Buetow, Baraboo, Wisconsin, Court of Federal Claims No: 14-0998V.

46. Krista Kuntzelman and James Kuntzelman on behalf of Emma Kuntzelman, Tampa, Florida, Court of Federal Claims No: 14-0999V.

47. Erin Quackenbush-Baker, Twin Falls, Idaho, Court of Federal Claims No: 14-1000V.

48. Vincent M. Cusimano, New Orleans, Louisiana, Court of Federal Claims No: 14-1003V.

49. Irwin Reich, Hicksville, New York, Court of Federal Claims No: 14-1004V.

50. Chelsey Atnip, Kaysville, Utah, Court of Federal Claims No: 14-1006V.

51. Nona Jones, Selmer, Tennessee, Court of Federal Claims No: 14-1007V.

52. William Moyer, Middlebrook, Virginia, Court of Federal Claims No: 14-1008V.

53. Isaac Bord and Elisa Pagano on behalf of Alexander Bord, Rockaway, New York, Court of Federal Claims No: 14-1009V.

54. Elizabeth Schandel, Farmingville, New York, Court of Federal Claims No: 14-1010V.

55. Garry Rehn, Elk River, Minnesota, Court of Federal Claims No: 14-1012V.

56. Catherine Smith, Sault Sainte Marie, Michigan, Court of Federal Claims No: 14-1013V.

57. Ann Marie Plastino on behalf of Alfred Plastino, Chicago, Illinois, Court of Federal Claims No: 14-1014V.

58. Bruce A. Ling, Jr., Bristol, Florida, Court of Federal Claims No: 14-1017V.

59. John Summers, Longview, Washington, Court of Federal Claims No: 14-1018V.

60. Steven T. McGehee, Greensboro, North Carolina, Court of Federal Claims No: 14-1020V.

61. Christopher Purvis, New London, Connecticut, Court of Federal Claims No: 14-1025V.

62. Renee Leetta Hunter, Bowie, Maryland, Court of Federal Claims No: 14-1026V.

63. Reuben Calixto and Sandra Calixto on behalf of D. C., Chicago, Illinois, Court of Federal Claims No: 14-1029V.

64. Heather Cook, Baraboo, Wisconsin, Court of Federal Claims No: 14-1030V.

65. Hannah Baiona, Marblehead, Massachusetts, Court of Federal Claims No: 14-1032V.

66. Christie Shine, Loma Linda, California, Court of Federal Claims No: 14-1033V.

67. Angela Clark, Shelby, North Carolina, Court of Federal Claims No: 14-1034V.

68. Razene Lewis, Bossier City, Louisiana, Court of Federal Claims No: 14-1035V.

69. David Weber, Mason, Ohio, Court of Federal Claims No: 14-1036V.

70. Barbara Verdick, Dallas, Texas, Court of Federal Claims No: 14-1039V.

71. Roberta Livolsi, Boston, Massachusetts, Court of Federal Claims No: 14-1040V.

72. Christine Haley, Boston, Massachusetts, Court of Federal Claims No: 14-1041V.

73. Richard Florida, Washington, Pennsylvania, Court of Federal Claims No: 14-1044V.

74. Helen Forrest, Jacksonville, Florida, Court of Federal Claims No: 14-1046V.

75. Connie Graham on behalf of Kaden Stuart, Duncan, Oklahoma, Court of Federal Claims No: 14-1047V.

76. James Greenamyre on behalf of Lacey J. Greenamyre, Middlebury, Vermont, Court of Federal Claims No: 14-1048V.

77. Amy Fogg, Lancaster, New Hampshire, Court of Federal Claims No: 14-1050V.

78. Julie Hallquist, Washington, District of Columbia, Court of Federal Claims No: 14-1052V.

79. Bruce A. Pederson, St. Cloud, Minnesota, Court of Federal Claims No: 14-1055V.

80. Amanda L. Isaacson, Milwaukee, Wisconsin, Court of Federal Claims No: 14-1056V.

81. Gregory Simpson and Sandra Simpson on behalf of H. S., Vienna, Virginia, Court of Federal Claims No: 14-1057V.

82. Sebastion J. Robinson, Ruston, Louisiana, Court of Federal Claims No: 14-1058V.

83. Valerie Dobbins, Greensboro, North Carolina, Court of Federal Claims No: 14-1059V.

84. John Lovelady, Boston, Massachusetts, Court of Federal Claims No: 14-1063V.

85. Marc Cosentino, Boston, Massachusetts, Court of Federal Claims No: 14-1064V.

86. Miranda Werner on behalf of P.M.S., Louisville, Kentucky, Court of Federal Claims No: 14-1065V.

[FR Doc. 2014-27987 Filed 11-25-14; 8:45 am]

BILLING CODE 4165-15-P